SECURITIES AND EXCHANGE COMMISSION

[Release No. 34-65379; File No. SR-CBOE-2011-079]

Self-Regulatory Organizations; Chicago Board Options Exchange, Incorporated; Notice of Filing and Immediate Effectiveness of a Proposed Rule Change To Adopt a Market-Maker Trade Prevention Order

September 22, 2011.

Correction

In notice document 2011-24866 appearing on pages 60108-60110 in the issue of September 28, 2011, make the following correction:

On page 60108, in the third column, the Release No. and File No., which were inadvertently omitted from the document heading, are added to read as set forth above.

[FR Doc. C1-2011-24866 Filed 10-17-11; 8:45 am]

BILLING CODE 1505-01-D